COUNCIL ON ENVIRONMENTAL QUALITY

Interagency Ocean Policy Task Force—Interim Report

AGENCY: Council on Environmental Quality.

ACTION: Notice of Availability, “Interim Report of the Interagency Ocean Policy Task Force.”

SUMMARY: On June 12, 2009, the President established an Interagency Ocean Policy Task Force, led by the Chair of the Council on Environmental Quality. The President's memorandum charged the Task Force with, within 90 days, developing recommendations that include: (1) A national policy for the oceans, our coasts, and the Great Lakes; (2) a United States framework for policy coordination of efforts to improve stewardship of the oceans, our coasts, and the Great Lakes; and (3) an implementation strategy that identifies and prioritizes a set of objectives the United States should pursue to meet the objectives of a national policy.

On September 10, 2009, the Task Force submitted its interim report to the President addressing the first three tasks outlined above. To allow for additional public engagement and comment before the President makes any final decision on the interim report, the Task Force is issuing it for a 30-day public comment period.

DATES: Comments should be submitted on or before October 17, 2009.

ADDRESSES: The Task Force Interim Report is available at http://www.whitehouse.gov/oceans.

Comments on the Task Force Interim Report should be submitted electronically to http://www.whitehouse.gov/oceans or in writing to the Council on Environmental Quality, Attn: Michael Weiss, 722 Jackson Place, NW., Washington, DC 20503.

FOR FURTHER INFORMATION CONTACT: Michael Weiss, Deputy Associate Director for Ocean and Coastal Policy, at (202) 456-6224.

SUPPLEMENTARY INFORMATION: On June 12, 2009, President Obama issued a Memorandum to the Heads of Executive Departments and Agencies that established an Interagency Ocean Policy Task Force, led by the Chair of the Council on Environmental Quality. That Presidential memo charged the Task Force with, within 90 days, developing recommendations that include:

1. A national policy that ensures the protection, maintenance, and restoration of the health of ocean, coastal, and Great Lakes ecosystems and resources, enhances the sustainability of ocean and coastal economies, preserves our maritime heritage, provides for adaptive management to enhance our understanding of and capacity to respond to climate change, and is coordinated with our national security and foreign policy interests. The recommendation should prioritize upholding our stewardship responsibilities and ensuring accountability for all of our actions affecting ocean, coastal, and Great Lakes resources, and be consistent with international law, including customary international law as reflected in the 1982 United Nations Convention on the Law of the Sea.

2. A United States framework for policy coordination of efforts to improve stewardship of the oceans, our coasts, and the Great Lakes. The Task Force should review the Federal Government's existing policy coordination framework to ensure integration and collaboration across jurisdictional lines in meeting the objectives of a national policy for the oceans, our coasts and the Great Lakes. This will include coordination with the work of the National Security Council and Homeland Security Council as they formulate and coordinate policy involving national and homeland security, including maritime security. The framework should also address specific recommendations to improve coordination and collaboration among Federal, State, tribal and local authorities, including regional governance structures.

3. An implementation strategy that identifies and prioritizes a set of objectives the United States should pursue to meet the objectives of a national policy for the oceans, our coasts, and the Great Lakes.

The Task Force was also charged with, within 180 days, developing a recommended framework for effective coastal and marine spatial planning.

On September 10, 2009, the Task Force submitted its interim report to the President addressing the first three tasks laid out in the President's Memorandum. To allow for additional public engagement and comment before the President makes any final decision on the interim report, the Task Force is issuing it for a 30-day public comment period. Though the main focus of the Task Force now turns to developing a recommended framework for effective coastal and marine spatial planning, due to the President by December 9, 2009, the Task Force anticipates that the Interim Report will be refined as the Task Force receives further thoughtful input from the public. With this continued public participation, the Task Force will be able to provide the President with the best possible final recommendation.

Public comments are requested on or before October 17, 2009.

September 17, 2009.
Nancy Sutley,
Chair, Council on Environmental Quality.

[FR Doc. E9-22868 Filed 9-22-09; 8:45 am]

BILLING CODE 3125-W9-P